DEPARTMENT OF ENERGY

Federal Energy Regulatory Commission

Combined Notice of Filings #1

Take notice that the Commission received the following exempt wholesale generator filings:

Docket Numbers: EG24-160-000.

Applicants: Silver Peak Solar, LLC.

Description: Silver Peak Solar, LLC submits Notice of Self-Certification of Exempt Wholesale Generator Status.

Filed Date: 4/4/24.

Accession Number: 20240404-5160.

Comment Date: 5 p.m. ET 4/25/24.

Take notice that the Commission received the following Complaints and Compliance filings in EL Dockets:

Docket Numbers: EL24-97-000.

Applicants: Energy Southeast, A Cooperative District, and Southeast Energy Authority, A Cooperative District.

Description: Petition for Declaratory Order of Energy Southeast, A Cooperative District, and Southeast Energy Authority, A Cooperative District.

Filed Date: 3/29/24.

Accession Number: 20240329-5505.

Comment Date: 5 p.m. ET 4/29/24.

Take notice that the Commission received the following electric rate filings:

Docket Numbers: ER22-290-006.

Applicants: Oakland Power Company LLC.

Description: Compliance filing: Hourly Capital Item Charge Update to be effective 8/1/2023.

Filed Date: 4/5/24.

Accession Number: 20240405-5199.

Comment Date: 5 p.m. ET 4/26/24.

Docket Numbers: ER23-1851-006.

Applicants: PJM Interconnection, L.L.C.

Description: Tariff Amendment: Metadata Effective Date—Amended ISA-CSA, SA Nos. 6917-6918; Queue No. AD1-031 to be effective 10/26/2023.

Filed Date: 4/5/24.

Accession Number: 20240405-5194.

Comment Date: 5 p.m. ET 4/26/24.

Docket Numbers: ER24-706-002.

Applicants: Northern Orchard Solar PV, LLC.

Description: Tariff Amendment: Deficiency Filing to be effective 2/19/2024.

Filed Date: 4/4/24.

Accession Number: 20240404-5169.

Comment Date: 5 p.m. ET 4/25/24.

Docket Numbers: ER24-1238-001.

Applicants: ISO New England Inc., NSTAR Electric Company.

Description: Tariff Amendment: ISO New England Inc. submits tariff filing per 35.17(b): ISO-NE/NSTAR; LGIA-ISONE/NSTAR-23-04 Amendment Filing to be effective 1/10/2024.

Filed Date: 4/5/24.

Accession Number: 20240405-5089.

Comment Date: 5 p.m. ET 4/26/24.

Docket Numbers: ER24-1658-001.

Applicants: Southwest Power Pool, Inc.

Description: Tariff Amendment: Amended Filing—Submission of Tariff to Establish Markets+ to be effective 12/31/9998.

Filed Date: 4/5/24.

Accession Number: 20240405-5033.

Comment Date: 5 p.m. ET 4/26/24.

Docket Numbers: ER24-1705-000.

Applicants: El Paso Electric Company.

Description: Baseline eTariff Filing: El Paso Electric Reserve Sharing Energy Tariff (NWPP Agreement) to be effective 5/1/2024.

Filed Date: 4/4/24.

Accession Number: 20240404-5154.

Comment Date: 5 p.m. ET 4/25/24.

Docket Numbers: ER24-1706-000.

Applicants: El Paso Electric Company.

Description: § 205(d) Rate Filing: Concurrence of EPE with Puget Sound Energy, Inc, NWPP Reserve Sharing Agreement to be effective 5/1/2024.

Filed Date: 4/4/24.

Accession Number: 20240404-5170.

Comment Date: 5 p.m. ET 4/25/24.

Docket Numbers: ER24-1707-000.

Applicants: AES ES Westwing, LLC.

Description: § 205(d) Rate Filing: AES ES Westwing, LLC SFA to be effective 4/6/2024.

Filed Date: 4/5/24.

Accession Number: 20240405-5072.

Comment Date: 5 p.m. ET 4/26/24.

Docket Numbers: ER24-1708-000.

Applicants: AES Westwing II ES, LLC.

Description: § 205(d) Rate Filing: AES Westwing II ES, LLC SFA to be effective 4/6/2024.

Filed Date: 4/5/24.

Accession Number: 20240405-5086.

Comment Date: 5 p.m. ET 4/26/24.

Docket Numbers: ER24-1709-000.

Applicants: PJM Interconnection, L.L.C.

Description: § 205(d) Rate Filing: Amended ISA, Service Agreement No. 6169; AC2-195 to be effective 6/5/2024.

Filed Date: 4/5/24.

Accession Number: 20240405-5135.

Comment Date: 5 p.m. ET 4/26/24.

Docket Numbers: ER24-1710-000.

Applicants: ISO New England Inc., New England Power Pool Participants Committee.

Description: § 205(d) Rate Filing: ISO New England Inc. submits tariff filing per 35.13(a)(2)(iii: Revisions to Further Delay the 19th FCA and Related Capacity Market Activities to be effective 5/21/2024.

Filed Date: 4/5/24.

Accession Number: 20240405-5170.

Comment Date: 5 p.m. ET 4/26/24.

Docket Numbers: ER24-1711-000.

Applicants: Split Rail Solar Energy LLC.

Description: Baseline eTariff Filing: Application for Market Based Rate to be effective 4/6/2024.

Filed Date: 4/5/24.

Accession Number: 20240405-5186.

Comment Date: 5 p.m. ET 4/26/24.

Docket Numbers: ER24-1712-000.

Applicants: Entergy Arkansas, LLC.

Description: § 205(d) Rate Filing: Big Cypress Solar LLC, LBA Agreement to be effective 4/6/2024.

Filed Date: 4/5/24.

Accession Number: 20240405-5201.

Comment Date: 5 p.m. ET 4/26/24.

Docket Numbers: ER24-1713-000.

Applicants: Entergy Arkansas, LLC.

Description: § 205(d) Rate Filing: Crooked Lake Solar LLC, LBA Agreement to be effective 4/6/2024.

Filed Date: 4/5/24.

Accession Number: 20240405-5202.

Comment Date: 5 p.m. ET 4/26/24.

Docket Numbers: ER24-1714-000.

Applicants: Entergy Arkansas, LLC.

Description: § 205(d) Rate Filing: Prairie Mist Solar LLC, LBA Agreement to be effective 4/6/2024.

Filed Date: 4/5/24.

Accession Number: 20240405-5204.

Comment Date: 5 p.m. ET 4/26/24.

Docket Numbers: ER24-1715-000.

Applicants: Entergy Texas, Inc.

Description: § 205(d) Rate Filing: Liberty County Solar Project LLC, LBA Agreement to be effective 4/6/2024.

Filed Date: 4/5/24.

Accession Number: 20240405-5206.

Comment Date: 5 p.m. ET 4/26/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: April 5, 2024.
Debbie-Anne A. Reese,
Acting Secretary.

[FR Doc. 2024-07737 Filed 4-10-24; 8:45 am]

BILLING CODE 6717-01-P